DEPARTMENT OF THE INTERIOR

National Park Service

National Register of Historic Places; Notification of Pending Nominations and Related Actions

Nominations for the following properties being considered for listing or related actions in the National Register were received by the National Park Service before February 17, 2007. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th Floor, Washington, DC 20005; or by fax, 202-371-6447. Written or faxed comments should be submitted by March 20, 2007.

Patrick W. Andrus,
Acting Chief, National Register of Historic Places/National, Historic Landmarks Program.

ARKANSAS

Garland County

CCC Company 3767 Powder Magazine Historic District, (Facilities Constructed by the CCC in Arkansas MPS), K59P Rd. N of Forest Service Rd. 11 (Gladstone Rd., Jessieville, 07000200

Montgomery County

CCC Company 741 Powder Magazine Historic District, (Facilities Constructed by the CCC in Arkansas MPS), Forest Service Rd. 177M NE of Norman, Norman, 07000201

Newton County

Archeological Site 3NW79, (Rock Art Sites in Arkansas TR), Address Restricted, Cowell, 07000202

Polk County

Buckeye Vista Overlook, (Facilities Constructed by the CCC in Arkansas MPS), Forest Service Rd. 38, Athens, 07000204

Sugar Creek Vista Overlook, (Facilities Constructed by the CCC in Arkansas MPS), Forest Service Rd. 38, Athens, 07000205

Pope County

Archeological Site 3PP614, (Rock Art Sites in Arkansas TR), Address Restricted, Sand Gap, 07000203

Yell County

CCC Company 749 Powder Magazine, (Facilities Constructed by the CCC in Arkansas MPS), N of Forest Service Rd. 4128 and S of Briggsville, Briggsville, 07000199

INDIANA

Allen County

Forest Park Boulevard Historic District, Roughly bounded by Dodge Ave., the alley bet. Forest Park Blvd. and Anthony Blvd, Lake Ave. and the alley, Fort Wayne, 07000212

Clark County

Spring Street Freight House, 1030 Spring St., Jeffersonville, 07000209

Greene County

Linton Commercial Historic District, Roughly bounded by B St. N, 1st St. E, A St. S, 1st St. W, Linton, 07000214

Lake County

Crown Point Courthouse Square Historic District (Boundary Increase II), 208 Main St, Crown Point, 07000210

Porter County

Young, Martin, House, 324 Second St., Chesterton, 07000208

Randolph County

Fudge Site, Address Restricted, Winchester, 07000213

St. Joseph County

North Liberty Park, (New Deal Resources in Indiana State Parks MPS), 309 N. Jefferson St., North Liberty, 07000211

IOWA

Marion County

First Christian Church, 824 Franklin St., Pella, 07000206

Woodbury County

Overseen, Julius and Anine House, 2037 S. Lemon St., Sioux City, 07000207

NORTH CAROLINA

Vance County

Machpelah, 12079 NC 39, approx. 0.5 mi. S of Townsville, Townsville, 07000215

PENNSYLVANIA

Berks County

Rhoads—Lorah House and Barn, 1832 Old Swede Rd., Amity Township, 07000216

SOUTH CAROLINA

Calhoun County

Fort Motte (38CL1), 0.75 mi. from N. end of Lang Syne Rd., St. Matthews, 07000221

Clarendon County

James Building, 124-126 Main St., Summerton, 07000222

TEXAS

Parker County

Byron Farmstead, 905 Meadowview Rd., Weatherford, 07000217

VIRGINIA

Albemarle County

Mechum River Farm, 1207 Burchs Creek Rd., Charlottesville, 07000235

Amherst County

Forest Hill, 713 Indian Creek Rd., Amherst, 07000218

Carroll County

Buffalo Mountain Presbyterian Church and Cemetery, (Reverend Robert Childress Presbyterian Churches MPS), 2102 Childress Rd., Willis, 07000229

Dinwiddie Presbyterian Church and Cemetery, (Reverend Robert Childress Presbyterian Churches MPS), 2698 Homestead Rd., Hillsville, 07000228

Fairfax County

Holmes Run Acres Historic District, Area generally bounded by Gallows Rd., Surrey Ln, and Holmes Run Dr., Falls Church, 07000230

Floyd County

Slate Mountain Presbyterian Church and Cemetery, (Reverend Robert Childress Presbyterian Churches MPS), 2121 Lonesome Dove Dr., Christiansburg, 07000227

Willis Presbyterian Church and Cemetery, (Reverend Robert Childress Presbyterian Churches MPS), 5733 Floyd Hwy S, Willis, 07000226

Henry County

Edgewood, 150 Old Stage Rd., Stanleytown, 07000231

James City County

White Hall, 3200 Rochambeau Rd., Toano, 07000234

Lunenburg County

Eubank Hall, 319 Eubank Rd., Fort Mitchell, 07000233

Nelson County

Elk Hill, 511 Rockfish Valley Hwy, Nellysford, 07000220

Norton Independent City

Roanoke Downtown Historic District (Boundary Increase), 310-324 Salem Ave. SW, Roanoke (Independent City), 07000232

Patrick County

Bluemont Presbyterian Church and Cemetery, (Reverend Robert Childress Presbyterian Churches MPS), Blue Ridge Pkwy, Mile Post #192, Fancy Gap, 07000224

Mayberry Presbyterian Church, (Reverend Robert Childress Presbyterian Churches MPS), 1127 Mayberry Church Rd., Meadows of Dan, 07000225

Richmond Independent City

Broad Street Commercial Historic District (Boundary Increase II), 100 Blk of E. Marshall St., S side. 300 Blks 1st and 2nd Sts. bet. Broad and Marshall Sts., Richmond (Independent City), 07000219

Rockbridge County

Poague, Margaret E., House, 4907 S. Lee Hwy (US 11), Lexington, 07000236

WEST VIRGINIA

Cabell County

Downtown Huntington Historic District, Portions of Third Ave. to the alley bet. Sixth and Seventh Aves. and from Twelth St. to Seventh St., Huntington, 07000240

Jackson County

Ravenswood “Old Town” Historic District, Bounded by Sandy Creek, the Ohio R, Sycamore St. and adjoining properties and the city limits to the east, Ravenswood, 07000243

Jefferson County

Barleywood, Ambler Rd., Approx. 1 mi. N of WV 51, Charles Town, 07000241

Cool Spring Farm, 1735 Lloyd Rd., Charles Town, 07000239

Ritchie County

Pennsboro B&O Depot, Corner of Broadway St. and Collins Ave., Pennsboro, 07000242

Roane County

Chrystal Water and Power Company—Spencer Water and Ice Company, Church St., Spencer, 07000238

WISCONSIN

Clark County

Dickinson, Decatur and Kate, House, 411 State St., Neillsville, 07000223

Fond Du Lac County

Baptist Church, 133 East Fond Du Lac St., Ripon, 07000237

Jackson County

Black Hawk Powwow Grounds, W8426 WI 54E, Komensky, 07000244

A request for removal has been made for the following resource:

IOWA

Pottawattamie County

Ogden House, 169 W. Broadway, Council Bluffs, 76000803

[FR Doc. E7-3726 Filed 3-2-07; 8:45 am]

BILLING CODE 4312-51-P